DEPARTMENT OF COMMERCE

National Oceanic and Atmospheric Administration

[I.D. 101601B]

Bottlenose Dolphin Take Reduction Team Meeting

AGENCY: National Marine Fisheries Service (NMFS), National Oceanic and Atmospheric Administration (NOAA), Commerce.

ACTION: Notice of public meeting.

SUMMARY: The Take Reduction Team for Western North Atlantic coastal bottlenose dolphins (BDTRT) will hold its first meeting to develop a take reduction plan as described in the Marine Mammal Protection Act (MMPA). Input will be sought from the BDTRT on a peer review process for all data related to stock structure, abundance, and human-caused mortality and serious injury rates. The BDTRT will focus on reducing bycatch in the following fisheries: Mid-Atlantic coastal gillnet, North Carolina inshore gillnet, Southeast Atlantic gillnet, Southeastern U.S. Atlantic shark gillnet, Atlantic blue crab trap/pot, Mid-Atlantic haul/beach seine, North Carolina long haul seine, North Carolina roe mullet stop net, and Virginia pound net.

DATES: The meeting will be held on November 6, 2001, starting at 9 a.m., and continue on November 7 and 8, starting at 8:30 a.m.

ADDRESSES: The BDTRT meeting will be held at the Sheraton Oceanfront Hotel, located oceanfront at 36th Street in Virginia Beach, Virginia. Phone: 757-425-9000.

FOR FURTHER INFORMATION CONTACT: Kathy Wang, Southeast Region, 727- 570- 5312, or Emily Hanson, Office of Protected Resources, 301- 713- 2322, x101.

SUPPLEMENTARY INFORMATION: Invitation letters mailed to BDTRT participants on August 27, 2001, and a Federal Register otice published on August 31, 2001 (66 FR 45968), announced that the BDTRT would be convened on September 12 and 13, 2001. However, the terrorist events of September 11, 2001, caused NMFS to cancel the September meeting. NMFS has rescheduled the first BDTRT meeting for November 6- 8, 2001, in Virginia Beach, Virginia.

NMFS has asked the following individuals to be members of the BDTRT: Mike Baker, Florida Gillnet Representative; Dave Beresoff, North Carolina Gillnet and Crab Pot Representative; Tina Berger, Atlantic States Marine Fisheries Commission; Paul Biermann, North Carolina Gillnet Representative; Gordon Colvin, New York Department of Environmental Conservation; David Cupka, South Carolina Wildlife and Marine Resources; Joseph DeAlteris, University of Rhode Island, Fisheries Center; Martin Dunson, Florida Crab Pot Representative; Lewis Gillingham, Virginia Marine Resources Commission; Michael Greco, Delaware Division of Fish and Wildlife; Doug Guthrie, North Carolina Stop Net Representative; Bruce Halgren, New Jersey Division of Fish and Wildlife; Emily Hanson, NMFS Office of Protected Resources; Chris Hickman, Long Haul Seine Fishery Representative; Fulton Love, Georgia Shad Gillnet Representative; Richard Luedtke, New Jersey Gillnet Representative; Rick Marks, New Jersey Gillnet and Haul Seine Representative; Dave Martin, Maryland Gillnet Representative; Bill McLellan, University of North Carolina at Wilmington; Ken Moran, South Carolina Shad Gillnet Representative; Fentress Munden, North Carolina Division of Marine Fisheries; Robert Munson, New Jersey Gillnet, Crab Pot and Pound Net Representative; Margaret Murphy, South Atlantic Fishery Management Council; Peter Nixon, Virginia Gillnet, Beach Seine, Crab Pot, and Pound Net Representative; William Outten, Maryland Department of Natural Resources; Mike Peele, North Carolina Beach Seine, Pound Net, and Gillnet Representative; Carl Poppell, Georgia Crab Pot Representative; Tim Ragen, Marine Mammal Commission; Andy Read, Duke University Marine Laboratory; John Reynolds III, Marine Mammal Commission; Sentiel Rommel, Florida Fish and Wildlife Conservation Commission; Jerry Schill, North Carolina commercial fisheries representative; Richard Seagraves, Mid-Atlantic Fishery Management Council; Larry Simns, Maryland Crab Pot Representative; Mark Swingle, Virginia Marine Science Museum; Leonard Voss, Delaware Gillnet and Crab Pot Representative; Chris Walker, Virginia Gillnet Representative; Kathy Wang, NMFS Southeast Regional Office; Rob West, North Carolina Gillnet, Pound Net, and Crab Pot Representative; A.D. Willis, North Carolina Recreational Crab Pot and Gillnet Representative; David Woolman, South Carolina Crab Pot Representative; Nina Young, The Ocean Conservancy; Sharon Young, The Humane Society of the United States; Chris Zeman, American Oceans Campaign; Barb Zoodsma, Georgia Coastal Resources, Georgia Department of Natural Resources. The BDTRT will be facilitated by Hans Neuhauser and Jim Feldt, Georgia Environmental Policy Institute.

Meetings are open to the public.

Dated: October 18, 2001.
Wanda L. Cain,
Acting Director, Office of Protected Resources, National Marine Fisheries Service.

[FR Doc. 01-26792 Filed 10-23-01; 8:45 am]

BILLING CODE 3510-22-S